DEPARTMENT OF ENERGY

National Nuclear Security Administration

Notice of Availability of the Draft Site-Wide Environmental Impact Statement for the Oak Ridge Y-12 Plant

AGENCY: Energy, National Nuclear Security Administration, DOE.

ACTION: Notice of availability and public hearings

SUMMARY: The National Nuclear Security Administration (NNSA), a semi-autonomous agency within the Department of Energy (DOE), announces the availability of the Draft Site-Wide Environmental Impact Statement for the Oak Ridge Y-12 Plant [Y-12 Draft SWEIS] (DOE/EIS-0309), and the dates and locations for public hearings to receive comments on the Y-12 Draft SWEIS. The Y-12 Draft SWEIS evaluates the potential environmental impacts associated with the continued operations of the Y-12 Plant, as well as with alternatives for modernizing Y-12 facilities to ensure its capability to meet future nuclear weapon stockpile needs in the post-Cold War era. The alternatives include construction and operation of new facilities for two of Y-12's missions: Highly Enriched Uranium (HEU) Materials Storage mission and Special Materials mission. The preferred alternative is to construct and operate a new HEU Materials Storage Facility and a new Special Materials Complex. Preferred sites on Y-12 for these new facilities have not been selected, but will be identified in the Y-12 Final SWEIS.

DATES: Comments on the Y-12 Draft SWEIS may be submitted to DOE (see Addresses below) until February 5, 2001. To ensure consideration in the Y-12 Final SWEIS, comments must be postmarked by February 5, 2001. Late comments will be considered to the extent practicable. Two public hearings to discuss issues and receive oral comments on the Y-12 Draft SWEIS will be held as follows: Thursday, January 25, 2001, in the Cumberland Room at the Oak Ridge Conference Center located at the Oak Ridge Mall, Oak Ridge, Tennessee. The first hearing will be held from 1-4 p.m. The second public hearing will be held from 6-9 p.m. The public hearings will provide the public with an opportunity to present comments, ask questions, and discuss concerns with DOE/NNSA officials regarding the Y-12 Draft SWEIS.

ADDRESSES: Comments on the Y-12 Draft SWEIS may be submitted by mail (U.S. Department of Energy, Oak Ridge Operations Office, Attn: Mr. Gary Hartman, P.O. Box 2001, Oak Ridge, TN 37831), by fax (1-865-576-1237), by phone (1-865-576-0273), or electronically (Y12EIS@oro.doe.gov). Specific information regarding the public meetings can be obtained by calling 1-865-576-0273, writing to the address above, or electronically via the Y-12 SWEIS web site: http://www.ttclients.com/y12/. Copies of the Y-12 Draft SWEIS and/or its Summary may also be obtained by contacting Mr. Gary Hartman by any of the means described above. The Y-12 Draft SWEIS is also available for review at the U.S. Department of Energy Public Reading Room at 230 Warehouse Road, Oak Ridge, TN 37830.

FOR FURTHER INFORMATION CONTACT: For general information on the NNSA NEPA process, please contact: Mr. Henry Garson, NEPA Compliance Officer for Defense Programs, U.S. Department of Energy/NNSA, 1000 Independence Avenue, SW., Washington, DC 20585; or telephone 1-800-832-0885, ext. 30470. For general information on the DOE NEPA process, please contact: Ms. Carol M. Borgstrom, Director, Office of NEPA Policy and Compliance (EH-42), U.S. Department of Energy, 1000 Independence Avenue, SW., Washington, DC 20585, telephone 202-586-4600, or leave a message at 1-800-472-2756.

SUPPLEMENTARY INFORMATION: The NNSA is responsible for providing the Nation with nuclear weapons and ensuring that those nuclear weapons remain safe, secure, and reliable. As one of the major production facilities, the Oak Ridge Y-12 Plant has been DOE's primary site for enriched uranium processing and storage, and one of the manufacturing facilities for maintaining the U.S. nuclear weapons stockpile. In recent years, the emphasis of the U.S. weapons program has shifted from developing and producing new weapons to dismantlement and maintenance of a smaller stockpile.

The Y-12 Draft SWEIS evaluates the potential environmental impacts from continued operation of the Oak Ridge Y-12 Plant, and the construction and operation of new facilities for two of Y-12's missions: HEU Materials Storage mission and Special Materials mission. Alternatives considered for the HEU Materials Storage mission include constructing and operating a new HEU Materials Facility at one of two candidate sites, or expanding and operating Building 9215. Three candidate sites are evaluated for a new Special Materials Complex for the Special Materials mission at Y-12. More specifically, the Y-12 Draft SWEIS analyzes potential impacts on land uses, transportation, socioeconomics, geology and soils, hydrology, biological resources, air quality/noise, site facilities and support activities, waste management, and cultural resources. In addition, environmental justice, radiological and chemical impacts during normal operations, and effects of accidents on workers and the public are included in the assessment. A disclaimer statement was mistakenly printed on the inside cover of each volume of the Draft SWEIS. DOE wishes to inform the public that the information contained in the Draft SWEIS is accurate and complete. Please disregard this disclaimer statement.

The preferred alternative is to construct and operate a new HEU Materials Storage Facility and a new Special Materials Complex. Preferred sites on Y-12 for these new facilities have not been selected, but will be identified in the Y-12 Final SWEIS. The Y-12 Final SWEIS is scheduled to be completed in August 2001. A Record of Decision would be issued no sooner than 30 days after the Y-12 Final SWEIS is issued.

Issued in Washington, DC this 29th day of December, 2000.
Madelyn R. Creedon,
Deputy Administrator for Defense Programs, National Nuclear Security Administration, Department of Energy.

[FR Doc. 01-443 Filed 1-5-01; 8:45 am]

BILLING CODE 6450-01-P